DEPARTMENT OF TRANSPORTATION

Federal Aviation Administration

14 CFR Part 71

[Docket No. FAA-2025-1187; Airspace Docket No. 24-AWP-84]

RIN 2120-AA66

Modification and Revocation of Class E Airspace; Hawaiian Island, HI

AGENCY: Federal Aviation Administration (FAA), DOT.

ACTION: Notice of proposed rulemaking (NPRM).

SUMMARY: This action proposes to modify the Class E airspace area extending upward from 700 feet above the surface (Class E5 700-foot airspace area) at Lihue Airport (LIH), Lihue, HI; Daniel K. Inouye International Airport (HNL), Honolulu, HI; and Ellison Onizuka Kona International Airport, Keahole (KOA), Kailua-Kona, HI, by adding an additional layer of Class E5 airspace extending upward from 1,200 feet above the surface. This proposed addition of controlled airspace would comply with international airspace treaty provisions and satisfy the State of Hawaii's domestic airspace requirements. Additionally, this action proposes to remove the existing Class E5 airspace area that currently encompasses the Hawaiian Islands and extends beyond 12 miles from the shoreline into international airspace. This proposed action would further modify the Class E4 airspace area designated as an extension to a Class D or Class E surface area at KOA and remove the Class E4 airspace area at LIH. These actions support the safe and efficient management of instrument flight rules (IFR) operations at airports within the Hawaiian Islands.

DATES: Comments must be received on or before September 18, 2025.

ADDRESSES: Send comments identified by FAA Docket No. FAA-2025-1187 and Airspace Docket No. 24-AWP-84 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20591; telephone: (202) 267-8783.

FOR FURTHER INFORMATION CONTACT: Keith T. Adams, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class E airspace to support IFR operations at airports within the Hawaiian Islands.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the Northwest Mountain Regional Office of the Federal Aviation Administration, Air Traffic Organization, Western Service Center, Operations Support Group, 2200 S 216th Street, Des Moines, WA 98198.

Incorporation by Reference

Class E4 and Class E5 airspace designations are published in paragraphs 6004 and 6005, respectively, of FAA Order JO 7400.11, Airspace Designations and Reporting Points, which is incorporated by reference in 14 CFR 71.1 on an annual basis. This document proposes to amend the current version of that order, FAA Order JO 7400.11J, dated July 31, 2024 and effective September 15, 2024. These updates would be published in the next update to FAA Order JO 7400.11. FAA Order JO 7400.11J, which lists Class A, B, C, D, and E airspace areas, air traffic service routes, and reporting points, is publicly available as listed in the ADDRESSES section of this document.

Background

In 2018, the FAA identified that the Class E airspace designation over the Hawaiian Islands extended into international airspace beyond U.S. territorial waters. Although a 2019 amendment (84 FR 24364; May 28, 2019) attempted to address the issue, it was based on a misinterpretation of applicable law and did not fully resolve the error. As a result, the current Class E airspace configuration remains inconsistent with international law. Under the Chicago Convention and customary international law—reflected in the United Nations Convention on the Law of the Sea (UNCLOS) and Proclamation 5928, Territorial Sea of the United States, issued by President Reagan in 1988—U.S. territorial waters extend 12 nautical miles from the coastline. Airspace beyond that limit is international and not subject to U.S. domestic designation. Hawaii's eight major islands are separated by distances exceeding 24 nautical miles in some areas, creating gaps of international airspace. The FAA's 2019 rule incorrectly applied the concept of “archipelagic states” under UNCLOS to justify connecting the islands with contiguous Class E airspace. However, FAA has since determined that because Hawaii is a U.S. state, it is not an archipelagic state under international law, and therefore is not entitled to such treatment. As confirmed by historical precedent, aircraft transiting between these island groupings enter international airspace when more than 12 nautical miles from the coastline. See, e.g., CAB v. Island Airlines, 235 F. Supp. 990 (D. Haw. 1964). This notice proposes corrective action to realign the Hawaiian Class E airspace with U.S. jurisdiction and international legal standards, restricting it to airspace over U.S. land and territorial waters.

The Proposal

The FAA is proposing an amendment to 14 CFR part 71 that would modify the Class E airspace extending upward from 700 feet or more above the surface (Class E5 700-foot airspace area) at LIH, HNL, and KOA. Additionally, the FAA proposes to revoke the existing Class E airspace area over the Hawaiian Islands that extends upward from 1,200 feet above the surface (Class E5 1200-foot airspace area) and redefine it in accordance with U.S. territorial boundaries (i.e., limiting the airspace to 12 miles from the state's coastline) to ensure compliance with international airspace sovereignty provisions. Each of the three airports' Class E5 (extending up from 700 feet above the surface) airspace areas would be modified to include an additional layer of Class E5 (extending upward from 1,200 feet above the surface) airspace area, designed to contain the respective island groups' territorial lands and coastal waters. The following discussion provides more detail regarding each of the specific modifications.

First, the LIH Class E5 (700 feet above the surface) airspace area would incorporate an additional Class E5 (1,200 feet above the surface) airspace area encompassing the islands of Kauai and Ni´ihau and the islet of Ka´ula limiting the airspace to 12 miles from the coastline. Additionally, the Class E5 (700 feet above the surface) airspace area should be modified to better contain the very high frequency omnidirectional range (VOR)/tactical air navigation (TACAN) Runway (RWY) 21 instrument approach procedures for LIH, extending upward from 700 feet above the surface within a 4.3-mile radius of the airport extending to the 7.3-mile radius between the airport's 354° bearing clockwise to the 192° bearing. Additionally, the Class E airspace designated as an extension to a Class D or Class E surface area (Class E4 airspace area) should be revoked as arriving aircraft descending through 1,000 feet above the surface are already contained within existing Class D and Class E2 surface areas associated with the airport.

Next, the HNL Class E5 (700 feet above the surface) airspace area would incorporate an additional Class E5 (1,200 feet above the surface) airspace area encompassing the islands of Oahu, Molokai, Lānai, Kahoolawe, and Maui limiting the airspace to 12 miles from the coastline. Additionally, the airport's name should be changed from Honolulu International Airport to Daniel K. Inouye International Airport in the airspace legal description to provide accurate and updated information.

Furthermore, the KOA Class E5 (700 feet above the surface) airspace area would incorporate an additional Class E5 (1,200 feet above the surface) airspace area encompassing the island of Hawaii limiting the airspace within 12 miles from the coastline. The KOA Class E5 (700 feet above the surface) airspace area should also be modified to better contain the VOR distance measuring equipment (DME)/TACAN RWY 17 approach procedures. The amended Class E5 (700 feet) airspace area would extend upward from 700 feet above the surface within the airport's 7.4-mile radius, and within 4 miles either side of the airport's 002° bearing extending from the airport's 7.4-mile radius to 11 miles north. Additionally, the Class E4 airspace area should be modified to better contain the previously mentioned instrument approach procedures, extending upward from the surface within 2.8 miles either side of the airport's 186° bearing extending from the airport's 4.3-mile radius to 5.7 miles south, and within 3.6 miles either side of the airport's 002° bearing extending from the airport's 4.3-mile radius to 9.5 miles north. Lastly, the airport name should be changed from Kona International Airport at Keahole to Ellison Onizuka Kona International Airport at Keahole in the airspace legal description to provide accurate and updated information.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with the National Environmental Policy Act (NEPA), 42 U.S.C. 4321, et seq., prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6004 Class E Airspace Designated as an Extension to a Class D or Class E Surface Area.

* * * * *

AWP HI E4 Kailua-Kona, HI [Amended]

Ellison Onizuka Kona International at Keahole, HI

(Lat. 19°44′20″ N, long. 156°02′44″ W)

That airspace extending upward from the surface within 2.8 miles each side of the 186° bearing from the airport extending from the 4.3-mile radius of the airport to 5.7 miles south of the airport, and within 3.6 miles each side of the 002° bearing of the airport extending from the 4.3-mile radius to 9.5 miles north of the airport.

* * * * *

AWP HI E4 Lihue HI [Removed]

Lihue Airport, HI

(Lat. 21°58′34″ N, long. 159°20′20″ W)

That airspace extending upward from the surface within that airspace beginning at lat. 21°54′25″ N, long. 159°21′36″ W, thence clockwise to lat. 21°58′15″ N, long. 159°15′42″ W; to lat. 21°55′03″ N, long. 159°12′10″ W; to lat. 21°51′03″ N, long. 159°11′05″ W; to lat. 21°50′34″ N, long. 159°21′50″ W, thence to the point of beginning.

* * * * *

Paragraph 6005 Class E Airspace Areas Extending Upward From 700 Feet or More Above the Surface of the Earth.

* * * * *

AWP HI E5 Lihue, HI [Amended]

Lihue Airport, HI

(Lat. 21°58′34″ N, long. 159°20′20″ W)

That airspace extending upward from 700 feet above the surface within a 4.3-mile radius of the airport, and within an area between the airport's 354° bearing clockwise to the 192° bearing between the 4.3-mile radius and the 7.3-mile radius; and that airspace extending upward from 1,200 feet above the surface within 12 NM of the shoreline of the islands of Kauai, Ni'Ihau, and Ka'ula.

* * * * *

AWP HI E5 Honolulu, HI (Amended)

Daniel K. Inouye International Airport, HI

(Lat. 21°19′07″ N, long. 157°55′21″ W)

Kalaeloa John Rodgers Field

(Lat. 21°18′26″ N, long. 158°04′13″ W)

Honolulu VORTAC

(Lat. 21°18′30″ N, long. 157°55′50″ W)

That airspace extending upward from 700 feet above the surface south and southeast of Daniel K. Inouye International Airport beginning at lat. 21°20′19″ N, long. 157°49′00″ W, thence southeast to lat. 21°16′31.15″ N, long. 157°45′11.19″ W, thence east along the shoreline to where the shoreline intercepts the Honolulu VORTAC 15-mile radius, then clockwise along the 15-mile radius of the Honolulu VORTAC to intercept the Honolulu VORTAC 241° radial, then northeast bound along the Honolulu VORTAC 241° radial to intercept the 4.3-mile radius south of Kalaeloa John Rogers Field, then counterclockwise along the arc of the 4.3-mile radius of Kalaeloa John Rogers field to and counterclockwise along the arc of a 5-mile radius of the Honolulu VORTAC to the Honolulu VORTAC 106° radial, then westbound along the Honolulu 106° radial to the 4-mile radius of the Honolulu VORTAC, then counterclockwise along the 4-mile radius to intercept the Honolulu VORTAC 071° radial, thence to the point of beginning, excluding that portion beyond 12 NM of the coastline, and that airspace beginning at lat. 21°10′25″ N, long. 158°11′22″ W; to lat. 21°16′05″ N, long. 158°14′35″ W; to lat. 21°16′30″ N, long. 158°13′46″ W; to lat. 21°16′50″ N, long. 158°00′00″ W; to the point of beginning; and that airspace extending upward from 1,200 feet above the surface within 12 NM of the shoreline of the islands of Oahu, Molokai, Lanai, Maui, and Kaho′olawe.

* * * * *

AWP HI E5 Kailua-Kona, HI [Amended]

Ellison Onizuka Kona International Airport at Keahole, HI

(Lat. 19°44′20″ N, long. 156°02′44″ W)

That airspace extending upward from 700 feet above the surface within a 7.4-mile radius of Ellison Onizuka Kona International Airport at Keahole, and within 4 miles each side of the 002° bearing of the airport extending from the 7.4-mile radius to 11 miles north of the airport; and that airspace extending upward from 1,200 feet above the surface within 12 miles off the coastline of the Island of Hawaii.

* * * * *

AWP HI E5 Hawaiian Islands, HI [Removed]

That airspace extending upward from 1,200 feet above the surface within 12 NM of the Hawaiian Islands' shoreline beginning at lat. 22°06′28″ N, long. 159°04′39″ W, to lat. 21°46′57″ N, long. 158°14′41″ W, to 12 NM from the shoreline of Oahu. Thence, clockwise along the line 12 NM from and parallel to the shoreline of the State of Hawaii, to lat. 20°30′29″ N, long. 155°53′40″ W, to lat. 20°28′08″ N, long. 155°52′03″ W, to 12 NM from the shoreline of Hawaii. Thence, clockwise along the line 12 NM from and parallel to the shoreline of Hawaii to lat. 20°03′26″ N, long. 156°05′30″ W, to lat. 20°22′48″ N, long.156°18′51″ W, to 12 NM from the shoreline of Maui. Thence clockwise along the line 12 NM from and parallel to the shoreline of the State of Hawaii, to lat. 21°25′19″ N, long. 158°26′08″ W, to lat. 21°44′34″ N, long. 159°15′27″ W, to 12 NM from the shoreline of Kauai. Thence, clockwise along the line 12 NM from and parallel to the shoreline of the State of Hawaii to the beginning.

* * * * *

Issued in Des Moines, Washington, on July 22, 2025.
B.G. Chew,
Group Manager, Operations Support Group, Western Service Center.

[FR Doc. 2025-14675 Filed 8-1-25; 8:45 am]

BILLING CODE 4910-13-P